DEPARTMENT OF TRANSPORTATION

Federal Aviation Administration

14 CFR Part 39

[Docket No. 2003-CE-65-AD]

RIN 2120-AA64

Airworthiness Directives; Glaser-Dirks Flugzeugbau GmbH Model DG-800B Sailplanes

AGENCY: Federal Aviation Administration (FAA), DOT.

ACTION: Supplemental notice of proposed rulemaking (NPRM); Reopening of the comment period.

SUMMARY: The FAA proposes to revise an earlier proposed airworthiness directive (AD) that applies to all Glaser-Dirks Flugzeugbau GmbH (DG Flugzeugbau) Model DG-800B sailplanes equipped with a SOLO 2625 engine or a Mid-West AE 50T engine. The earlier NPRM would have required you to modify the coolant pump and fuel pump electrical circuits, replace the non-resettable circuit breaker with a resettable circuit breaker, and (for a version of the Mikuni carburetor) secure the choke butterfly valve axis. The earlier NPRM resulted from mandatory continuing airworthiness information (MCAI) issued by the airworthiness authority for Germany. This proposed AD is the result of further analysis by FAA of the service information and FAA determining that important actions were omitted in the NPRM and should be incorporated. Since these required actions impose an additional burden over that proposed in the NPRM, we are reopening the comment period to allow the public the chance to comment on these additional actions.

DATES: We must receive any comments on this proposed AD by December 13, 2004.

ADDRESSES: Use one of the following to submit comments on this proposed AD:

• By mail: FAA, Central Region, Office of the Regional Counsel, Attention: Rules Docket No. 2003-CE-65-AD, 901 Locust, Room 506, Kansas City, Missouri 64106.

• By fax: (816) 329-3771.

• By e-mail: 9-ACE-7-Docket@faa.gov. Comments sent electronically must contain “Docket No. 2003-CE-65-AD” in the subject line. If you send comments electronically as attached electronic files, the files must be formatted in Microsoft Word 97 for Windows or ASCII.

You may get the service information identified in this proposed AD from DG Flugzeugbau, Postbox 41 20, D-76625 Bruchsal, Federal Republic of Germany; telephone: 011-49 7257-890; facsimile: 011-49 7257-8922.

You may view the AD docket at FAA, Central Region, Office of the Regional Counsel, Attention: Rules Docket No. 2003-CE-65-AD, 901 Locust, Room 506, Kansas City, Missouri 64106. Office hours are 8 a.m. to 4 p.m., Monday through Friday, except Federal holidays.

FOR FURTHER INFORMATION CONTACT: Greg Davison, Aerospace Engineer, FAA, Small Airplane Directorate, 901 Locust, Room 301, Kansas City, Missouri 64106; telephone: (816) 329-4130; facsimile: (816) 329-4090.

SUPPLEMENTARY INFORMATION:

Comments Invited

How do I comment on this proposed AD? We invite you to submit any written relevant data, views, or arguments regarding this proposal. Send your comments to an address listed under ADDRESSES. Include “AD Docket No. 2003-CE-65-AD” in the subject line of your comments. If you want us to acknowledge receipt of your mailed comments, send us a self-addressed, stamped postcard with the docket number written on it. We will date-stamp your postcard and mail it back to you.

Are there any specific portions of this proposed AD I should pay attention to? We specifically invite comments on the overall regulatory, economic, environmental, and energy aspects of this proposed AD. If you contact us through a nonwritten communication and that contact relates to a substantive part of this proposed AD, we will summarize the contact and place the summary in the docket. We will consider all comments received by the closing date and may amend this proposed AD in light of those comments and contacts.

Discussion

What events have caused this proposed AD? The Luftfahrt-Bundesamt (LBA), which is the airworthiness authority for Germany, recently notified FAA that an unsafe condition may exist on DG Flugzeugbau Model DG-800B sailplanes. The LBA reports both electrical circuits of the fuel pump and the coolant pump (on a SOLO 2625 engine or a Mid-West AE 50T engine) are protected by a non-resettable digital engine indicator (DEI) circuit breaker. The pumps will stop running if the non-resettable circuit breaker activates.

What is the potential impact if FAA took no action? If a non-resettable circuit breaker trips, this could result in power loss with the inability to restart the fuel pump during a critical phase of flight (for example, takeoff under own power).

Has FAA taken any action to this point? We issued a proposal to amend part 39 of the Federal Aviation Regulations (14 CFR part 39) to include an AD that would apply to all DG Flugzeugbau Model DG-800B sailplanes equipped with a SOLO 2625 engine or a Mid-West AE 50T engine. This proposal was published in the Federal Register as a notice of proposed rulemaking (NPRM) on April 12, 2004 (69 FR 19135). The NPRM proposed to require you to:

—Modify the coolant pump and fuel pump electrical circuits;

—Replace the non-resettable circuit breaker with a resettable circuit breaker, and

— Secure the choke butterfly valve axis (for a version of the Mikuni carburetor).

Was the public invited to comment? The FAA encouraged interested persons to participate in developing this amendment. We did not receive any comments on the proposed rule or on our determination of the cost to the public.

What events have caused FAA to issue a supplemental NPRM? The FAA has done further analysis of the service information and determined that important actions were omitted in the NPRM. The omitted actions include installing edge protection at the sharp edges of the circuit breaker and making revisions to the flight manual.

FAA's Determination and Requirements of This Proposed AD

What has FAA decided? After examining the circumstances and reviewing all available information related to the incidents described above, we have determined that:

—The unsafe condition referenced in this document exists or could develop on other Glaser-Dirks Flugzeugbau GmbH (DG Flugzeugbau) Model DG-800B sailplanes equipped with a SOLO 2625 engine or a Mid-West AE 50T engine of the same type design that are on the U.S. registry;

—We should change the NPRM to include the omitted actions; and

—We should take AD action to correct this unsafe condition.

The Supplemental NPRM

How will the changes to the NPRM impact the public? Proposing the additional actions that you install edge protection at the sharp edges of the circuit breaker and revise the flight manual goes beyond the scope of what was originally proposed in the NPRM. Therefore, we are reopening the comment period and allowing the public the chance to comment on these additional actions.

What are the provisions of the supplemental NPRM? The proposed AD would require you to:

—Modify the coolant pump and fuel pump electrical circuits;

—Remove the non-resettable digital engine indicator (DEI) circuit breaker (4-ampere) and replace with a resettable 5-ampere circuit breaker;

—Secure the choke butterfly valve axis that is on the SOLO 2625 engine (New version Mikuni carburetor);

—Install edge protection at the sharp edges of the resettable 5-ampere DEI circuit breaker; and

—Incorporate “Flight Manual” changes that are listed in the service information.

How does the revision to 14 CFR part 39 affect this proposed AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Costs of Compliance

How many sailplanes would this proposed AD impact? We estimate that this proposed AD affects 25 sailplanes in the U.S. registry.

What would be the cost impact of this proposed AD on owners/operators of the affected sailplanes? We estimate the following costs to do this proposed modification:

Labor cost | Parts cost | Total cost per sailplane | Total cost on U.S. operators
6 workhours at $65 per hour = $390 | $100 | $490 | 25 × $490 = $12,250

Regulatory Findings

Would this proposed AD impact various entities? We have determined that this proposed AD would not have federalism implications under Executive Order 13132. This proposed AD would not have a substantial direct effect on the States, on the relationship between the national Government and the States, or on the distribution of power and responsibilities among the various levels of government.

Would this proposed AD involve a significant rule or regulatory action? For the reasons discussed above, I certify that this proposed AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this proposed AD and placed it in the AD Docket. You may get a copy of this summary by sending a request to us at the address listed under ADDRESSES. Include “AD Docket No. 2003-CE-65-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Glaser-Dirks Flugzeugbau GmbH: Docket No. 2003-CE-65-AD.

When Is the Last Date I Can Submit Comments on This Proposed AD?

(a) We must receive comments on this proposed airworthiness directive (AD) by December 13, 2004.

What Other ADs Are Affected by This Action?

(b) None.

What Sailplanes Are Affected by This AD?

(c) This AD affects all Model DG-800B sailplanes, all serial numbers, that are:

(1) Certificated in any category; and

(2) Equipped with a SOLO 2625 engine or a Mid-West AE 50T engine.

What Is the Unsafe Condition Presented in This AD?

(d) This AD is the result of mandatory continuing airworthiness information (MCAI) issued by the airworthiness authority for Germany. The actions specified in this AD are intended to prevent electrical failure of the fuel and coolant pumps if a non-resettable circuit breaker trips. This could result in power loss with the inability to restart the fuel pump during a critical phase of flight (for example, takeoff under own power).

What Must I Do To Address This Problem?

(e) To address this problem, you must do the following:

Actions | Compliance | Procedures
(1) Modify the coolant pump and fuel pump electrical circuits | Within the next 50 hours time-in-service (TIS) after the effective date of this AD, unless already done | For sailplanes with a SOLO 2625 engine: Follow DG Flugzeugbau GmbH Technical Note No. 873/26, dated November 12, 2001; For sailplanes with a Mid-West AE 50T engine: Follow DG Flugzeugbau GmbH Technical Note No. 873/27, dated November 29, 2001.
(2) Remove the non-resettable digital engine indicator (DEI) circuit breaker (4-ampere) replace with a resettable 5-ampere circuit breaker | Before further flight after the modification of the coolant pump and fuel pump and electrical circuits required by paragraph (e)(1) of this AD | For sailplanes with a SOLO 2625 engine: Follow DG Flugzeugbau GmbH Technical Note No. 873/26, dated November 12, 2001; For sailplanes with a Mid-West AE 50T engine: Follow DG Flugzeugbau GmbH Technical Note No. 873/27, dated November 29, 2001.
(3) For sailplanes with engine SOLO 2625 (New version Mikuni carburetor): Secure the choke butterfly valve axis | Before further flight after the modification of the coolant pump and fuel pump electrical circuits required by paragraph. (e)(1) of this AD and the removal and replacement required by paragraph (e)(2) of this AD | For sailplanes with a SOLO 2625 engine: Follow DG Flugzeugbau GmbH Technical Note No. 873/26, dated November 12, 2001.
(4) Install edge protection at the sharp edges of the resettable 5-ampere DEI circuit breaker | Before further flight after the modification of the coolant pump and fuel pump electrical circuits required by paragraph (e)(1) of this AD and the removal and replacement required by paragraph (e)(2) of this AD | For sailplanes with a SOLO 2625 engine: Follow DG Flugzeugbau GmbH Technical Note No. 873/26, dated November 12, 2001; For sailplanes with a Mid-West AE 50T engine: Follow DG Flugzeugbau GmbH Technical Note No. 873/27, dated November 29, 2001.
(5) Incorporate changes in the FAA-approved sailplane flight manual (SFM) (i) The owner/operator holding at least a private pilot certificate as authorized by section 43.7 of the Federal Aviation Regulations (14 CFR 43.7) may do the flight manual changes requirement of this AD. (ii) Make an entry in the aircraft records showing compliance with this portion of the AD following section 43.9 of the Federal Aviation Regulations (14 CFR 43.9). | Before further flight after the modifications required by paragraphs (e)(1), (e)(2), (e)(3), and (e)(4) of this AD | For sailplanes with a SOLO 2625 engine: Follow DG Flugzeugbau GmbH Technical Note No. 873/26, dated November 12, 2001; For sailplanes with a Mid-West AE 50T engine: Follow DG Flugzeugbau GmbH Technical Note No. 873/27, dated November 29, 2001.
(6) Do not install any SOLO 2625 engine or Mid-West AE 50T engine unless the modifications required by paragraphs (e)(1), (e)(2), (e)(3), and (e)(4) of this AD have been done | As of the effective date of this AD | Not Applicable.

May I Request an Alternative Method of Compliance?

(f) You may request a different method of compliance or a different compliance time for this AD by following the procedures in 14 CFR 39.19. Unless FAA authorizes otherwise, send your request to your principal inspector. The principal inspector may add comments and will send your request to the Manager, Standards Office, Small Airplane Directorate, FAA. For information on any already approved alternative methods of compliance, contact Greg Davison, Aerospace Engineer, FAA, Small Airplane Directorate, 901 Locust, Room 301, Kansas City, Missouri 64106; telephone: (816) 329-4130; facsimile: (816) 329-4090.

May I Get Copies of the Documents Referenced in This AD?

(g) You may get copies of the documents referenced in this AD from DG Flugzeugbau, Postbox 41 20, D-76625 Bruchsal, Federal Republic of Germany; telephone: 011-49 7257-890; facsimile: 011-49 7257-8922. You may view these documents at FAA, Central Region, Office of the Regional Counsel, 901 Locust, Room 506, Kansas City, Missouri 64106.

Is There Other Information That Relates to This Subject?

(h) German AD Number 2002-083, dated April 4, 2002, also addresses the subject of this AD.

Issued in Kansas City, Missouri, on November 2, 2004.
James E. Jackson,
Acting Manager, Small Airplane Directorate, Aircraft Certification Service.

[FR Doc. 04-24818 Filed 11-5-04; 8:45 am]

BILLING CODE 4910-13-P